NATIONAL SCIENCE FOUNDATION

Agency Information Collection Activities: Comment Request

ACTION: Notice.

SUMMARY: Under the Paperwork Reduction Act of 1995, Public Law 104-13 (44 USC U.S.C. 3506(c)(2)(A)), and as part of its continuing effort to reduce paperwork and respondent burden, the National Science Foundation invites the general public and other Federal agencies to take this opportunity to comment on this information collection.

DATES: Written comments should be received by June 9, 2014 to be assured of consideration. Comments received after that date will be considered to the extent practicable.

ADDRESSES: Written comments regarding the information collection and requests for copies of the proposed information collection request should be addressed to Suzanne Plimpton, Reports Clearance Officer, National Science Foundation, 4201 Wilson Blvd., Rm. 1265, Arlington, VA 22230, or by email to splimpto@nsf.gov.

FOR ADDITIONAL INFORMATION OR COMMENTS: ontact Suzanne Plimpton, the NSF Reports Clearance Officer, phone (703) 292-7556, or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Title: Evaluation of National Science Foundation's Partnerships for International Research and Education Program.

OMB Approval Number: Not applicable.

Expiration Date of Approval: Not applicable.

Abstract. This is a request that the Office of Management and Budget (OMB) approve, under the Paperwork Reduction Act of 1995, a three year clearance for Abt Associates Inc. to conduct data collection efforts for an outcome evaluation of the National Science Foundation's Partnerships for International Research and Education (PIRE) Program. The PIRE program offers researchers an opportunity to forge collaborative relationships with foreign scientists and engineers and provides educational and professional development opportunities for U.S.-based postdoctoral fellows, graduate and undergraduate students to acquire on-site research experience at an international laboratory, institution or research site, whether university-, industry- or government-based. The PIRE program funds projects across a broad array of scientific and engineering disciplines in an effort to catalyze long-term, sustainable international partnerships for collaborative research. Across its first four award cohorts in 2005, 2007, 2010 and 2012, PIRE has made a total of 59 awards. PIRE grant awards range from $2.5 million to $5 million and typically last five years. These projects range from relatively small, bi-national consortia (e.g., two U.S. and two non-U.S. institutions in one foreign country) to large, multi-national, multi-institutional awards (e.g., a dozen U.S. institutions and 11 non-U.S. institutions representing eight foreign nations). Many are multi-disciplinary, combining, for example, the expertise of econometricians with researchers in fluid dynamics; and, notably, many feature partnerships between academic and industrial or non-profit institutions. Collectively, these 59 PIRE projects have provided research and educational opportunities for more than 100 postdoctoral fellows, more than 625 graduate students and approximately 600 undergraduates. More than 600 U.S.-based and over 400 foreign-based faculty and researchers at university and non-academic institutions have participated in one or more PIRE-funded collaborations.

To assess the program's outcomes, NSF plans to collect data to explore the number and quality of publications produced by PIRE projects and participants, the international experiences of participants, their educational and career outcomes, the extent to which program participants establish and maintain collaborations with foreign researchers, and what effect the PIRE program has on policies and practices at U.S. and foreign institutions. The primary methods of data collection will include analyses of NSF program records and bibliometric data, and web-based surveys of principal investigators, postdoctoral and student participants, foreign senior investigators, and administrative officials at U.S. institutions.

Expected Respondents: Includes PIRE principal and co-principal investigators; postdoctoral, graduate student and undergraduate PIRE participants; foreign senior investigators (individuals with whom PIRE principal investigators have formed partnerships); administrative officials within international affairs and/or study abroad offices at U.S. institutions of the lead PIRE principal investigators; and principal or co-principal investigators, postdoctoral and graduate student participants in NSF-funded projects other than PIRE, selected for similarity to PIRE based on award year, amount, and duration, research fields, and degree of emphasis on international collaboration.

Use of the Information: The purpose of these studies is to provide NSF with outcome data on the PIRE program. These data would be used for internal program management and for reporting to stakeholders within and outside of NSF.

Burden on the Public: NSF estimates 3,000 survey responses collected one time at an average of 20 minutes per response for a total of 1,000 hours.

Consult With Other Agencies & The Public: NSF has not consulted with other agencies. However, the contractor conducting the evaluation has gathered information from an external working group of subject matter experts on the study design and data collection plan. A request for public comments will be solicited through announcement of data collection in the Federal Register.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology. Comments submitted in response to this notice will be summarized and/or included in the request for OMB approval of this information collection; they also will become a matter of public record.

Dated: April 4, 2014.
Suzanne Plimpton,
Reports Clearance Officer, National Science Foundation.

[FR Doc. 2014-07963 Filed 4-9-14; 8:45 am]

BILLING CODE 7555-01-P